OFFICE OF SCIENCE AND TECHNOLOGY POLICY

NATIONAL SECURITY COUNCIL

47 CFR Parts 211 and 213

Emergency Restoration Priority Procedures for Telecommunications Services

AGENCIES: Office of Science and Technology Policy and National Security Council.

ACTION: Notice of proposed rulemaking (NPRM).

SUMMARY: The Office of Science and Technology Policy (OSTP) and the National Security Council (NSC) propose to remove their regulation on Emergency Restoration Priority Procedures for Telecommunications Services. The information in this regulation is no longer relevant or timely as it has been superseded by National Communications System (NCS) Directive 3-1. Removal of this regulation will ensure consistency and eliminate confusion between the OSTP and the Federal Communications Commission (FCC).

DATES: Comments must be received by August 20, 2001.

ADDRESSES: Address all comments concerning this proposed rule to the OSTP Senior National Security Officer, Eisenhower Executive Office Building, Room 494, Washington, DC 20502.

FOR FURTHER INFORMATION CONTACT: Lieutenant Colonel Terrence Kelly, USA, 202-456-6057.

SUPPLEMENTARY INFORMATION:

Explanation of Requirements of Proposed Rule

47 CFR Part 211, Emergency Restoration Priority Procedures for Telecommunications Services was adopted in 1978 (43 FR 50431, October 30, 1978) and corresponded to then 47 CFR Part 64, Appendix A. In 1987, the Manager, NCS, petitioned the FCC to revise Appendix A to establish a new system to restore NS/EP communications. In 1988, the FCC issued a Report and Order adopting in substance the changes proposed by the Manager. (In the Matter of National Security Emergency Preparedness Telecommunications Service Priority System, General Docket 87-505, 3 FCC Rcd. 6650, 1988, the “Order.”) In the FCC portion of Title 47 CFR, new 47 CFR part 64, Appendix A, as revised in the Order, replaced the old Appendix A in its entirety. 47 CFR part 211, the corresponding OSTP section of Title 47 CFR, has not been changed.

The FCC's Order makes it clear that its rules apply before invocation of the Presidential war powers. It notes that its rules and those adopted by OSTP for use after invocation will provide for a uniform system of administering restoral priorities. Order, par. 1b and c. After adoption by the FCC, the new restoral rules were set forth in an NCS Directive, NCS Directive 3-1. This directive states it applies to priorities that had previously been governed by 47 CFR Part 64 Appendix A and 47 CFR Part 211. OSTP approval is necessary before NCS directives may become effective; thus, by signing off on NCS Directive 3-1, OSTP has already agreed that the procedures set forth in old 47 CFR part 211 are obsolete. NCS Directive 3-1 is published at 47 CFR part 216.2 and provides notice to telecommunications carriers of the procedures to be followed both before and after invocation of the President's war powers. It appears no further notice is necessary and elimination of 47 CFR part 211 will not result in a lack of guidance to telecommunications carriers.

47 CFR part 213, Government and Public Correspondence Telecommunications Precedence System was also adopted in 1978 (43 FR 50434, October 30, 1978). It sets forth an operator-assisted system to provide priorities to NS/EP calls. A companion section dealing with priorities prior to invocation of the President's war powers was found in 47 CFR Part 64, Appendix B. As part of the rulemaking proceeding that led to the rules now set forth in Part 64, Appendix A, the Manager asked that Appendix B be deleted since operators were by then no longer involved in the routine handling of calls. The process had become automated and operator intervention was impracticable. The FCC concurred and in its Order removed Appendix B to Part 64. Order, at Par. 3. There is no substitute for Appendix B. Thus, 47 CFR part 213 may be eliminated in its entirety with no substitution.

List of Subjects in 47 Parts 211 and 213

Civil defense, Communications common carriers, Defense communications, Emergency powers, Telecommunications.

Dated: July 17, 2001.
Barbara Ann Ferguson,
Administrative Officer, Office of Science and Technology Policy.
Dated: July 17, 2001.
Dean J. Haas,
Deputy Executive Secretary and Senior Director for Administration, National Security Council.

For the reasons set forth in the preamble and under the authority of Executive Order 12472, 47 CFR, Chapter II is proposed to be amended by removing Parts 211 and 213.

[FR Doc. 01-18367 Filed 7-23-01; 8:45 am]

BILLING CODE 3170-01-P